DEPARTMENT OF TRANSPORTATION

Maritime Administration

[USCG-2007-28676]

Clearwater Port Liquefied Natural Gas Deepwater Port License Application; Preparation of Environmental Impact Statement/Environmental Impact Report

AGENCY: Maritime Administration, DOT.

ACTION: Notice of intent; notice of public meeting; request for comments.

SUMMARY: The Maritime Administration and the U.S. Coast Guard, in coordination with the California State Lands Commission (CSLC), announce their intent to prepare an environmental impact statement/environmental impact report (EIS/EIR), in connection with this application for a proposed liquefied natural gas (LNG) deepwater port (DWP) that would be located in the Pacific Ocean approximately 10.5 miles offshore of Ventura County, California.

The EIS/EIR will be prepared in coordination with the CSLC because the applicant has filed a land lease application with the CSLC for the construction, use and maintenance of a 36-inch diameter subsea pipeline on submerged lands in State waters to deliver natural gas onshore. The EIS/EIR will meet the requirements of both the National Environmental Policy Act (NEPA) and the California Environmental Quality Act (CEQA).

Publication of this notice begins a scoping process that will help identify and determine the scope of environmental issues addressed in the EIS/EIR. This notice requests public participation in the scoping process, provides information on how to participate, and serves as a notice of preparation (NOP) for the purposes of compliance with CEQA.

DATES: Material submitted in response to the request for comments must be received by the Docket Management Facility or the CSLC by October 18, 2007 by 2 p.m. Pacific Daylight Time (see Request for Comments and Addresses for the address and instructions on how to submit comments). Public meeting dates are October 3, 2007 in Oxnard, California, and October 4, 2007 in Santa Clarita, California.

ADDRESSES: The public meetings and informational open houses will be held at the following times and places:

October 3, 2007

Performing Arts and Convention Center, 800 Hobson Way, Oxnard, California 93030, Telephone: (805) 486-2424.

Public Scoping Meetings: 1:30 p.m. to 3:30 p.m. and 6:30 p.m. to 8:30 p.m.; Open House: 12:30 p.m. to 1:30 p.m. and 5:30 p.m. to 6:30 p.m.

October 4, 2007

Santa Clarita Activities Center, Santa Clarita Room, 20880 Centre Pointe Parkway, Santa Clarita, California 91350, Telephone: (661) 250-3701.

Public Scoping Meeting: 6 p.m. to 8 p.m.; Open House: 4 p.m. to 6 p.m.

The public docket for USCG-2007-28676 is maintained by the Department of Transportation Docket Management Facility. You may submit comments by any of the following methods:

If filing comments by September 27, 2007, please use:

• Web Site: http://dms.dot.gov. Follow the instructions for submitting comments on the Department of Transportation Docket Management System electronic docket site. No electronic submissions will be accepted between September 28, 2007, and October 1, 2007.

If filing comments on or after October 1, 2007, use:

• Federal eRulemaking Portal: Go to http://www.regulations.gov. Follow the online instructions for submitting comments.

Alternatively, you can file comments using the following methods:

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Instructions: Note that all comments received will be posted without change to http://dms.dot.gov or http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://dms.dot.gov until September 27, 2007, or the street address listed above. The DOT docket may be offline at times between September 28 through September 30 to migrate to the Federal Docket Management System (FDMS). On October 1, 2007, the internet access to the docket will be http://www.regulations.gov. Follow the online instructions for accessing the dockets.

FOR FURTHER INFORMATION CONTACT: Contact Ray Martin, U.S. Coast Guard, at (202) 372-1449 or e-mail at Raymond.W.Martin@uscg.mil; Kevin Tone, U.S. Coast Guard, at (202) 372-1441 or Kevin.P.Tone@uscg.mil; Mr. Scott Davies, U.S. Maritime Administration, at (202) 366-2763 or Scott.Davies@dot.gov; or contact Crystal Spurr, located in the Sacramento, CA office of the California State Lands Commission, at (916) 574-0748 or e-mail at spurrc@slc.ca.gov.

This public notice may be requested in an alternative format, such as Spanish translation, audiotape, large print, or Braille by contacting Crystal Spurr, CSLC, (916) 574-0748 (spurrc@slc.ca.gov).

SUPPLEMENTARY INFORMATION: The Maritime Administration and the U.S. Coast Guard, in coordination with the California State Lands Commission (CSLC), announce their intent to prepare an environmental impact statement/environmental impact report (EIS/EIR), in connection with this application for a proposed liquefied natural gas (LNG) deepwater port (DWP) that would be located in the Pacific Ocean approximately 10.5 miles offshore of Ventura County, California. The EIS/EIR will be prepared with the CSLC because the applicant has filed a land lease application with the CSLC for the construction, use and maintenance of a 36-inch diameter subsea pipeline on submerged lands in State waters to deliver natural gas onshore. The EIS/EIR will meet the requirements of both the National Environmental Policy Act (NEPA) and the California Environmental Quality Act (CEQA). Publication of this notice begins a scoping process that will help identify and determine the scope of environmental review and invites public participation in the scoping process, and provides information on how to participate. This notice also serves as a notice of preparation (NOP) for the purposes of CEQA compliance.

Background

Information about deepwater ports, the statutes and regulations governing licensing, and the receipt of the current application for the proposed Clearwater Port LNG deepwater port appears at 72 FR 50445, August 31, 2007.

Consideration of a deepwater port license application and CSLC land lease application includes review of the proposed environmental impacts. The U.S. Coast Guard, in coordination with the Maritime Administration, determines the scope of this review. In this case, these Federal agencies have determined that review must include preparation of an EIS. The CSLC, as the State lead agency under the CEQA, has determined that an EIR is required. Because of the many similarities between an EIS and an EIR, the U.S. Coast Guard (in coordination with the Maritime Administration) and the CSLC have agreed to cooperate in preparing a single document that satisfies both the NEPA and the CEQA. This notice of intent is required by 40 CFR 1508.22, and briefly describes the proposed action, possible alternatives, and the proposed scoping process. For the State of California's purposes, this notice serves as a notice of preparation, notice of public scoping meetings, and request for comments as described in CEQA Guidelines Section 15082. Address any questions about the proposed action, the scoping process, or the EIS/EIR to the U.S. Coast Guard and CSLC contact persons identified in the FOR FURTHER INFORMATION CONTACT section. Comments need not be submitted to more than one agency; all comments received by one agency will be shared with and entered into the record of the other agencies.

Proposed Action/ Project Description

Clearwater Port LLC (a subsidiary of NorthernStar Natural Gas Inc.) is proposing to construct Clearwater Port, an offshore liquefied natural gas receiving terminal and regasification facility located in federal waters approximately 10.5 miles offshore of the coast of Oxnard, California in Federal Outer Continental Shelf (OCS) Lease Block OCS-P 0217. Clearwater Port will be comprised primarily of Platform Grace; an offset dual berth (ODB) Satellite Service Platform that would be installed adjacent to Platform Grace for docking of the LNG carriers; and a new 36-inch subsea pipeline to transport vaporized natural gas from the platform connecting at a junction point onshore to a Southern California Gas Company (SoCalGas) pipeline located in Rancho Santa Clara near Camarillo, California. The pipeline would come ashore within the Reliant Energy Mandalay Power Generating Station and connect with a new gas receiving and metering facility.

The onshore components of the project would consist of approximately 63 miles of new pipeline by expanding the SoCalGas pipeline system as follows: A 36-inch pipeline extending 12.9 miles from the Reliant Energy Mandalay Power Generating Station to the existing Center Road Station; a 36-inch pipeline extending 37 miles to loop the existing Line 324 for transport of additional capacities from the Center Road Station to the existing Saugus Station; an 8.75-mile leg of 36-inch pipeline to loop the existing Line 225 for transport of additional capacities from the existing Honor Rancho Station to the Quigley Station; and, a final 4.5-mile leg of 36-inch pipeline to extend the existing Line 3008 (currently from the Quigley Valve Station to the Newhall Valve Station) for transport of additional capacities from the existing Quigley Valve Station to the existing Balboa Station. Contact Crystal Spurr, CSLC, (916) 574-0748 (spurrc@slc.ca.gov) to obtain a map of the project location.

The deepwater port would be able to receive approximately 139 LNG carriers annually and accommodate two LNG carriers ranging from 70,000 m ³ to 220,000 m ³ in capacity. The carriers would transfer LNG one carrier at a time through a conventional marine loading arm system to the platform via a cryogenic pipe-in-pipe where it would be regasified by an ambient air vaporizer (AAV) system. The AAV would have the capacity to achieve an average hourly rate of 2300 m ³, an average daily gas send-out of 1.2 Bcfd, and a peak sendout capacity of 1.4 Bcfd. Construction of the deepwater port could be expected to take three (3) years; with start-up of commercial operations following construction, should a Federal license and the required California State lease and permits be issued. The deepwater port would be designed, constructed and operated in accordance with applicable codes and standards and would have an expected operating life of approximately 30 years.

Public Meeting and Open House

We invite you to learn about the proposed deepwater port at an informational open house and comment at a public meeting on environmental issues related to the proposed deepwater port. The comments will help us identify and refine the scope of the environmental issues to be addressed in the EIS/EIR.

Written material may be submitted at the public meeting, either in place of or in addition to speaking. Written material should include your name and address, and will be included in the public docket.

All public meeting locations are wheelchair-accessible. If you plan to attend the open house or public meeting, and need special assistance such as sign language interpretation or other reasonable accommodation, please notify the U.S. Coast Guard (see FOR FURTHER INFORMATION CONTACT) at least 3 business days in advance. Include your contact information as well as information about your specific needs.

Request for Comments

We request public comments or other relevant information on environmental issues related to the proposed deepwater port. The public meeting is not the only opportunity to comment. In addition to or in place of attending a meeting, comments can be submitted to the Docket Management Facility during the public comment period (see DATES). All comments and materials received during the comment period will be considered. Address comments/docket submissions to either of the following agencies:

Department of Transportation, Docket Management Facility, West Building, Ground Floor, Room W12-140, 1200 New Jersey Avenue, SE., Washington, DC 20590.

Submit your comments by electronic submission to DMS, http://dms.dot.gov (or to http://www.regulations.gov, if filing comments on or after October 1, 2007) or by fax, mail, or hand delivery to the Docket Management Facility. Faxed or hand delivered submissions must be unbound, no larger than 8½ by 11 inches, and suitable for copying and electronic scanning. If you mail your submission and want to know when it reaches the Facility, include a stamped, self-addressed postcard or envelope. The Docket Management Facility accepts hand-delivered submissions, and makes docket contents available for public inspection and copying at this address, in room W12-140, between 9 a.m. and 5 p.m., Monday through Friday, except Federal holidays. The Docket Management Facility's telephone is 202-366-9329, and its fax is 202-493-2251.

California State Lands Commission, Attn: Crystal Spurr, 100 Howe Avenue, Suite 100 South, Sacramento, California 95825-8202.

The telephone number at the California State Lands Commission is (916) 574-1900, and the fax is (916) 574-1885. You can submit your comments by electronic submissions to the CSLC, spurrc@slc.ca.gov; or by fax, mail, or hand delivery to the CSLC. Faxed or hand delivered submissions must be unbound, no larger than 81/2 by 11 inches, and suitable for copying and electronic scanning. If you mail your submission and want to know when it reaches the CSLC, include a stamped, self-addressed postcard or envelope.

Submissions should include:

• Docket number USCG-2007-28676.

• Your name and address.

• Your reasons for making each comment or for bringing information to our attention.

Regardless of the method used for submitting comments or materials, all submissions will be posted, without change, to the DMS Web site (http://dms.dot.gov) (or to http://www.regulations.gov, if filing comments on or after October 1, 2007), and will include any personal information you provide. Therefore, submitting this information makes it public (see Privacy Act).

If you have questions on viewing the docket, call Renee V. Wright, Program Manager, Docket Operations, telephone: 202-493-0402. Additionally, information pertaining to the proposed Clearwater Port is available online at http://dms.dot.gov or http://www.slc.ca.gov.

Scoping Process

Public scoping is an early and open process for identifying and determining the scope of issues addressed in the EIS/EIR. Scoping begins with this notice, continues through the public comment period and ends when the Coast Guard, Maritime Administration and the CSLC have:

• Invited the participation of Federal, State, and local agencies, any affected Indian tribe, the applicant, and other interested persons;

• Determined the actions, alternatives, and impacts described in 40 CFR 1508.25;

• Identified and eliminated from detailed study those issues that are not significant or that have been covered elsewhere;

• Allocated responsibility for preparing EIS/EIR components;

• Indicated any related environmental assessments or environmental impact statements that are not part of the EIS;

• Identified other relevant environmental review and consultation requirements;

• Indicated the relationship between timing of the environmental review and other aspects of the application process; and

• At the Federal agencies' discretion, exercised the options provided in 40 CFR 1501.7 (b).

Once the scoping process is complete, the Maritime Administration and Coast Guard, in cooperation with CSLC, will prepare a draft EIS/EIR (DEIS/DEIR), and publish a Federal Register notice announcing its public availability. To receive that notice, please contact those identified in (FOR FURTHER INFORMATION). An opportunity to review and comment on the draft EIS/EIR will be provided. The Maritime Administration, Coast Guard, and CSLC will consider those comments in the preparation of the final EIS/EIR (FEIS/FEIR). As with the draft EIS, we will announce the availability of the FEIS/FEIR and once again provide an opportunity for review and comment.

Availability of EIS/EIR

In addition to the Federal Register notice announcing the availability of the DEIS/DEIR, the CSLC will file a notice of completion with the California State Clearinghouse. The DEIS/DEIR in hardcopy or electronic format will be distributed to agencies, local public libraries and interested parties that have requested copies. Comments received during the DEIS/DEIR review period will be available in the public docket and responded to in the FEIS/FEIR. An NOA of the FEIS/FEIR will be published in the Federal Register, and the CSLC will issue notices of availability and completion. Additional public meetings will be held after the draft and final documents are published.

Currently Identified Environmental Issues

The EIS/EIR for Clearwater Port will discuss, among other issues: The purpose and need for this LNG project; project alternatives; the no action/no project alternative; the affected environment/baseline; the environmental impacts of the proposed action/project and alternatives; and proposed mitigation measures. The EIS/EIR will assess the impacts of the project and alternatives on the environment, including approving or not approving (no action/no project alternative) the state lease and the federal license to construct and operate the DWP.

Environmental issues that will require detailed analysis include, but are not necessarily limited to:

• Aesthetics—alter the onshore and offshore viewsheds; light and glare;

• Air Quality—onshore and offshore impacts on regional air quality; impacts of greenhouse gas emissions;

• Geological Resources and Soils—impacts from seismic hazards, erosion, and loss of unique paleontological resources;

• Hazardous Materials—impacts from hazardous material spills or pipeline rupture;

• Marine Transportation—impacts on marine traffic;

• Onshore Transportation—impacts from construction traffic and temporary lane closures;

• Marine Biology—impacts on sea turtles, marine mammals, benthic communities, or other special status species;

• Recreation—impacts on boating and commercial and recreational fishing, and impacts on public beach access;

• Hazards and Risk/Safety—impacts from LNG/gas release (The EIS/EIR will include an independent, site-specific risk assessment);

• Noise and Vibration—impacts of noise on local residents, boaters, passengers on marine vessels, fish, sea turtles, and marine mammals;

• Terrestrial Biology—impacts from construction, operation and maintenance activities on biological resources;

• Water Quality—impacts from spills, releases of LNG, erosion;

• Environmental Justice—potential disproportionate effects on minority and low income populations within the Project area;

• Agricultural Resources—impacts on farmland and crops;

• Cultural Resources—impacts on shipwrecks and Native American, archaeological, and historic resources;

• Energy and Mineral Resources—Restriction on the future availability of exploitable oil and gas resources;

• Land Use—potential conflicts with existing land uses;

• Socioeconomics—impacts on community character, population, housing, public services, employment;

• Cumulative Impacts—The EIS/EIR will evaluate the cumulative effects of the project, if any, associated with each environmental issue area;

• Alternatives—The EIS/EIR will evaluate the No Action/No Project Alternative. Other alternatives that may be analyzed include: Alternative Offshore Locations; Alternative Onshore Locations; Alternative Capacity; Alternative Onshore and Offshore Pipeline Routes; Alternative Methodologies; Alternative Technologies and Design Concepts.

Agency Involvement

The major Federal and State permit, approval, and consultation requirements for Clearwater Port include, but are not necessarily limited to, the following:

Federal:

• DOT/Maritime Administration-DWP license.

• DHS/U.S. Coast Guard-DWP design and operational requirements.

• U.S. Environmental Protection Agency (EPA) Clean Air Act and Clean Water Act (CWA) permits.

• U.S. Army Corps of Engineers (USACE)-Clean Water Act Section 404 and Rivers and Harbors Act Section 10 permits

• U.S. Fish and Wildlife Service-Section 7, Endangered Species Act (ESA) consultation.

• U.S. Department of Defense.

• U.S. State Department.

• U.S. Department of Interior, Minerals Management Service (MMS).

• National Oceanic and Atmospheric Administration (NOAA), Section 7, ESA consultation requirements.

• NOAA Fisheries-Magnuson-Stevens Fisheries Management and Conservation Act consultation.

• NOAA Fisheries-Marine Mammal Protection Act consultation.

California

• California Coastal Commission Compliance with California Coastal Act and consistency with California Coastal Management Program.

• California State Historic Preservation Officer (SHPO), National Historic Preservation Act Section 106 and California historic preservation consultation and compliance.

Privacy Act

The electronic form of all comments received into the DOT docket are available to any person and may be searched by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority 49 CFR 1.66)

Dated: September 12, 2007.
By Order of the Maritime Administrator.
Daron T. Threet,
Secretary, Maritime Administration.

[FR Doc. E7-18323 Filed 9-17-07; 8:45 am]

BILLING CODE 4910-81-P